DEPARTMENT OF COMMERCE

Bureau of Industry and Security

Transportation and Related Equipment Technical Advisory Committee; Notice of Open Meeting

The Transportation and Related Equipment Technical Advisory Committee will meet on November 9, 2006, 9:30 a.m., Room 6087B, in the Herbert C. Hoover Building, 14th Street between Constitution and Pennsylvania Avenues, NW., Washington, DC. The Committee advises the Office of the Assistant Secretary for Export Administration on implementation of the Export Administration Regulations (EAR) and provides for continuing review to update the EAR as needed.

Agenda

1. Welcome and Introductions.

2. Presentation by the Office of Technology Evaluation.

3. Policy Overview.

4. Regulations Overview.

5. Missile Technology Control Regime.

6. Wassenaar Issues for Discussion at September 06 Multilateral Meeting—Call for 2007 Proposals.

7. Presentation Papers and Comments by the Public.

8. Reports on Working Groups.

9. Follow-up on Open Action Items.

10. Closing Comments.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials to Yvette Springer at Yspringer@bis.doc.gov.

For more information contact Ms. Springer on (202) 482-2813.

Dated: October 19, 2006.
Yvette Springer,
Committee Liaison Officer.

[FR Doc. 06-8888 Filed 10-24-06; 8:45 am]

BILLING CODE 3510-JT-M